DEPARTMENT OF TRANSPORTATION

Federal Aviation Administration

14 CFR Part 39

[Docket No. FAA-2008-0222; Directorate Identifier 2007-NM-300-AD; Amendment 39-15604; AD 2008-14-09]

RIN 2120-AA64

Airworthiness Directives; Airbus Model A300 and A300-600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Due to several crack findings in the area of wing centre box lower aft corner at FR47, this area of structure has been subjected to accomplishment of several inspection Service Bulletins rendered mandatory in accordance with Airworthiness Limitation Items requirement for A300 aircraft and Airworthiness Directive (AD) F-2004-159 for A300-600 aircraft [which corresponds to FAA AD 2005-23-08]. This AD is published * * * in order to control or correct the development of cracks, which could affect the structural integrity of the aircraft.

We are issuing this AD to require actions to correct the unsafe condition on these products.

DATES: This AD becomes effective August 14, 2008.

The Director of the Federal Register approved the incorporation by reference of certain publications listed in this AD as of August 14, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on February 29, 2008 (73 FR 11067). That NPRM proposed to correct an unsafe condition for the specified products. The MCAI states:

Due to several crack findings in the area of wing centre box lower aft corner at FR47, this area of structure has been subjected to accomplishment of several inspection Service Bulletins [SBs] rendered mandatory in accordance with Airworthiness Limitation Items requirement for A300 aircraft and Airworthiness Directive (AD) F-2004-159 for A300-600 aircraft [which corresponds to FAA AD 2005-23-08]. This AD is published in order to render mandatory an inspection subsequent to accomplishment of repair SB A300-53-0282 or A300[-53]-0291 or A300-57-6069 in the affected area. The SB A300-53-0381, A300-53-0383 and A300-57-6102 define the various configurations for the mandatory [repetitive] inspections to be conducted in order to control or correct the development of cracks [in the center wing box at FR47], which could affect the structural integrity of the aircraft.

The inspections include x-ray, high frequency eddy current, visual, and ultrasonic inspections. Corrective actions include contacting Airbus if any cracking is found, repairing if any cracking is found, and doing other specified actions. The other specified actions include contacting Airbus for oversizing fastener holes, oversizing fastener holes, installing new fasteners, and installing new plugs. You may obtain further information by examining the MCAI in the AD docket.

Comments

We gave the public the opportunity to participate in developing this AD. We considered the comment received.

Request To Revise Cost

Air Transport Association (ATA), on behalf of its member, American Airlines, states that the cost estimate of $1,760 specified in the NPRM is far too low. ATA states that Airbus Service Bulletin A300-57-6102, dated January 12, 2007 (which is referred to as an appropriate source of service information for doing certain actions specified in the NPRM), specifies that an accomplishment kit costs $1,650 for one wing and that the labor requirement for inspecting one wing is 19 hours. ATA notes that costs will double for airplanes on which Airbus A300-57-6102 is accomplished on both wings.

We agree that the cost estimate is too low. We have revised the labor hours in the Costs of Compliance section of this AD to reflect the 38 hours necessary to inspect both wings.

However, we do not agree to add the cost of the kits necessary to do applicable corrective actions. The information in the Costs of Compliance section is limited to the cost of actions actually required by the AD. It does not consider the costs of “on-condition” actions (e.g., “repair, as applicable”) because, regardless of AD direction, those actions would be required to correct an unsafe condition identified in an airplane and ensure operation of that airplane in an airworthy condition, as required by the Federal Aviation Regulations.

New Service Information

Airbus has issued Service Bulletins A300-53-0381, A300-53-0383, and A300-57-6102, all including Appendix 1, all Revision 01, all dated May 27, 2008 (we referred to the original issues of the service bulletins as the appropriate source of service information for accomplishing the actions specified in the NPRM). Revision 01 of the service bulletins specify that no more action is needed on airplanes on which actions specified in the original issues have been done. Revision 01 of the service bulletins updates the Effectivity section and clarifies the unit of measurement for the values of certain tables in the Compliance section of the service bulletins.

We have revised this final rule to refer to Revision 01 of the service bulletins. We have not restated paragraph (f)(1)(ii) of the NPRM in this AD because Revision 01 of the service bulletins addresses the unit of measurement for the specified tables. We have also added paragraph (f)(5) of this AD to give credit for actions done in accordance with the original issues of the service bulletins.

Revision to Airplane Model Reference

For clarity, we have revised the airplane model references in paragraphs (c)(1), (c)(2), (c)(3) of this AD by adding the word “airplanes” to the model designations as published in the most recent type certificate data sheet for the affected models.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 107 products of U.S. registry. We also estimate that it will take about 38 work-hours per product to comply with the basic requirements of this AD. The average labor rate is $80 per work-hour. Based on these figures, we estimate the cost of this AD to the U.S. operators to be $325,280, or $3,040 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-14-09 Airbus: Amendment 39-15604. Docket No. FAA-2008-0222; Directorate Identifier 2007-NM-300-AD.

Effective Date

(a) This airworthiness directive (AD) becomes effective August 14, 2008.

Affected ADs

(b) None.

Applicability

(c) This AD applies to Airbus Model A300 and A300-600 series airplanes, certificated in any category, as listed in paragraphs (c)(1), (c)(2), and (c)(3) of this AD.

(1) Airbus Model A300 B2-1C, B2-203 and B2K-3C airplanes, all serial numbers that have been repaired in accordance with Airbus Service Bulletin A300-53-0282.

(2) Airbus Model A300 B4-103, B4-203, and B4-2C airplanes, all serial numbers that have been repaired in accordance with Airbus Service Bulletin A300-53-0291.

(3) Airbus Model A300 B4-601, B4-603, B4-605R, B4-620, B4-622, B4-622R, C4-605R Variant F, and F4-605R airplanes, all serial numbers that have been repaired in accordance with Airbus Service Bulletin A300-57-6069.

Subject

(d) Air Transport Association (ATA) of America Codes 53 and 57: Fuselage and Wings.

Reason

(e) The mandatory continuing airworthiness information (MCAI) states:

Due to several crack findings in the area of wing centre box lower aft corner at FR47, this area of structure has been subjected to accomplishment of several inspection Service Bulletins [SBs] rendered mandatory in accordance with Airworthiness Limitation Items requirement for A300 aircraft and Airworthiness Directive (AD) F-2004-159 for A300-600 aircraft [which corresponds to FAA AD 2005-23-08]. This AD is published in order to render mandatory an inspection subsequent to accomplishment of repair SB A300-53-0282 or A300[-53]-0291 or A300-57-6069 in the affected area. The SB A300-53-0381, A300-53-0383 and A300-57-6102 define the various configurations for the mandatory [repetitive] inspections to be conducted in order to control or correct the development of cracks [in the center wing box at FR47], which could affect the structural integrity of the aircraft.

The inspections include x-ray, high frequency eddy current, visual, and ultrasonic inspections. Corrective actions include contacting Airbus if any cracking is found, repairing if any cracking is found, and doing other specified actions. The other specified actions include contacting Airbus for oversizing fastener holes, oversizing fastener holes, installing new fasteners, and installing new plugs.

Actions and Compliance

(f) Unless already done, do the following actions.

(1) Except as provided by paragraphs (f)(1)(i), (f)(1)(ii), (f)(1)(iii), and (f)(1)(iv) of this AD, at the threshold defined in paragraph 1.E., “Compliance,” of the applicable service bulletin listed in Table 1 of this AD and according to the Accomplishment Instructions of the applicable service bulletin, perform all applicable inspections and, before further flight, perform all applicable other specified actions, of FR47 forward fitting vertical splice (including crack stop hole), crack stop hole (depending on crack's length and position), center wing box lower panel, and reinforced parts (internal angle, lower external splice and external fitting).

Table 1.—Airbus Service Bulletins
Service Bulletin | Revision | Date
A300-53-0381 | 01 | May 27, 2008.
A300-53-0383 | 01 | May 27, 2008.
A300-57-6102 | 01 | May 27, 2008.

(i) Where the tables in paragraph 1.E., “Compliance,” of the service bulletins listed in Table 1 of this AD contain compliance times in both flight cycles and flight hours, this AD requires that the corresponding actions be done at the earlier of the flight cycle and flight hour compliance times.

(ii) Where any table in paragraph 1.E., “Compliance,” of the service bulletins listed in Table 1 of this AD specifies exact measurements in the rows of the table for LA, use the ranges specified in Table 2 of this AD.

Table 2.—Ranges for LA
Where row of the table specifies— | Use—
LA = 0 | LA = 0.
LA = 10 | 0 < LA ≤ 10 mm.
LA = 15 | 10 mm < LA ≤ 15 mm.
LA = 20 | 15 mm < LA ≤ 20 mm.

(iii) Where in paragraph 1.E., “Compliance,” of the service bulletins listed in Table 1 of this AD the service bulletins specify a compliance time after receipt of the service bulletin, this AD requires compliance within the specified compliance time after the effective date of this AD.

(iv) Where any table in paragraph 1.E., “Compliance,” of the service bulletins listed in Table 1 of this AD specifies measurements of LA > 40 mm, this AD requires that the corresponding action be done if LA ≥ 40 mm.

(2) If any crack is detected during any inspection required by paragraph (f)(1) of this AD, before further flight, contact Airbus and repair.

(3) Repeat the actions specified in paragraph (f)(1) of this AD at the intervals defined in paragraph 1.E., “Compliance,” of the applicable service bulletin listed in Table 1 of this AD and according to the Accomplishment Instructions of the applicable service bulletin, except as provided by paragraphs (f)(1)(i), (f)(1)(ii), and (f)(1)(iv) of this AD.

(4) Within 30 days after doing the inspection required by paragraph (f)(1) of this AD or within 30 days after the effective date of this AD, whichever occurs later, report the first inspection results, whatever they may be, to Airbus as specified in the applicable service bulletin listed in Table 1 of this AD.

(5) Actions accomplished before the effective date of this AD according to the applicable service bulletin specified in Table 3 of this AD are considered acceptable for compliance with the corresponding action specified in this AD.

Table 3.—Credit Service Bulletins
Airbus Service Bulletin | Date
A300-53-0381 | Jan. 15, 2007.
A300-53-0383 | Jan. 11, 2007.
A300-57-6102 | Jan. 12, 2007.

FAA AD Differences

Note: This AD differs from the MCAI and/or service information as follows: The MCAI and service bulletin did not provide adequate descriptions for certain compliance requirements. We have clarified the compliance requirements in paragraphs (f)(1)(i), (f)(1)(ii), (f)(1)(iii), and (f)(1)(iv) of this AD.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0150, dated May 22, 2007 [corrected May 23, 2007], and the Airbus service bulletins listed in Table 1 of this AD, for related information.

Material Incorporated by Reference

(i) You must use the applicable service information specified in Table 4 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 4.—Material Incorporated by Reference
Airbus Service Bulletin | Revision | Date
A300-53-0381, including Appendix 1 | 01 | May 27, 2008.
A300-53-0383, including Appendix 1 | 01 | May 27, 2008.
A300-57-6102, including Appendix 1 | 01 | May 27, 2008.

Issued in Renton, Washington, on June 26, 2008.
Dionne Palermo,
Acting Manager, Transport Airplane Directorate, Aircraft Certification Service.

[FR Doc. E8-15265 Filed 7-9-08; 8:45 am]

BILLING CODE 4910-13-P